ENVIRONMENTAL PROTECTION AGENCY

[FRL-9994-73-Region 10]

Proposed Reissuance of NPDES General Permits for Aquaculture Facilities in Idaho Excluding Facilities Discharging Into the Upper Snake-Rock Subbasin (IDG131000) and Aquaculture Facilities Located in Indian Country in Idaho (IDG133000)

AGENCY: Environmental Protection Agency (EPA).

ACTION: Notice of proposed reissuance of NPDES General Permits and request for public comment.

SUMMARY: The Director of the Water Division, EPA Region 10, is proposing to reissue two aquaculture National Pollutant Discharge Elimination System (NPDES) General Permits; Aquaculture Facilities in Idaho Excluding Facilities Discharging into the Upper Snake-Rock Subbasin, and Aquaculture Facilities Located in Indian Country in Idaho. As proposed, the General Permits will authorize discharges of wastewater from cold water and warm water Concentrated Aquatic Animal Production facilities (also referred to as CAAPs or “hatcheries”). The permits will largely replace and combine the NPDES General Permit for Cold Water Aquaculture Facilities in Idaho (not subject to Wasteload Allocations) (IDG131000) and the NPDES General Permit for Aquaculture Facilities in Idaho (subject to Wasteload Allocations) (IDG130000) but will exclude facilities discharging within the Upper Snake-Rock Subbasin. The EPA is not taking action on coverage for facilities that discharge within the Upper Snake-Rock Subbasin under IDG130000 at this time; those facilities with coverage will remain covered under IDG130000. Coverage for facilities under IDG130000 that are not within the Upper Snake-Rock Subbasin will be terminated once coverage under IDG131000 or IDG133000 is available. In addition, with this reissuance, the EPA is separating out discharges from aquaculture facilities located in Indian County in Idaho under a separate General Permit number (IDG133000). This will facilitate the transfer of IDG131000 to the State of Idaho in 2020 as part of the phased implementation of Idaho's administration of the NPDES Program. EPA will remain the permitting authority for IDG133000.

DATES: Comments must be received by July 22, 2019.

ADDRESSES: Comments on the draft General Permits may be mailed to: Director, Water Division; USEPA Region 10; 1200 Sixth Avenue, Suite 155, WD19-C09; Seattle, WA 98101, or may also be submitted by fax to (206) 553-0165 or electronically to kusnierz.lisa@epa.gov.

FOR FURTHER INFORMATION CONTACT: Permit documents may be found on the EPA Region 10 website at: www.epa.gov/npdes-permits/draft-npdes-general-permits-aquaculture-facilities-idaho. Copies of the draft General Permits and Fact Sheet are also available upon request. Requests may be made to Audrey Washington at (206) 553-0523 or to Lisa Kusnierz at (208) 378-5626. Requests may also be electronically mailed to: washington.audrey@epa.gov, or kusnierz.lisa@epa.gov.

SUPPLEMENTARY INFORMATION:

I. General Information

There are approximately 25 facilities eligible for coverage under the two General Permits. The Permits generally share the same conditions but differ in that IDG131000 is for facilities discharging to waters of the U.S. in Idaho (excluding facilities discharging within the Upper Snake-Rock Subbasin) and IDG133000 is for facilities discharging to waters of the U.S. within Indian Country in Idaho. Aquaculture facilities may use one of several types of production systems, including ponds, flow-through systems, and recirculating systems. Most of the facilities eligible for coverage by the General Permits use flow-through systems. Most facilities have a quiescent zone at the bottom of their raceways to allow solids and debris to settle out (where they can be vacuumed and removed) and use a full-flow settling basin or offline settling basin to remove sediment and associated pollutants prior to discharge.

The General Permits have numeric effluent limits for total phosphorus and total suspended solids for all facilities and temperature limits for some facilities, as well as prohibitions on certain discharges and practices. Numeric limitations for facilities may differ depending on applicable Total Maximum Daily Load (TMDL) wasteload allocations. Permit conditions include reporting requirements for the usage of drugs and chemicals and development of a Best Management Practices Plan that addresses solids control, operational requirements, materials storage, structural maintenance, recordkeeping, and training.

The basis for the conditions and requirements of the draft General Permits are given in the Fact Sheet. Facilities will receive a written notification from the EPA whether permit coverage and authorization to discharge under one of the General Permits is approved. Major changes in the permit conditions from the 2007 General Permit include: Removal of the percent total suspended solids removal requirement for offline settling basins, prohibition on copper usage, the addition of continuous temperature monitoring for some facilities, and miscellaneous monitoring revisions.

The EPA has completed a Biological Evaluation for these Permit actions. Consultation under the Endangered Species Act between the EPA and the National Marine Fisheries Service and the U.S. Fish and Wildlife Service has been completed. The Services concurred on the EPA's determination that the Permit actions are not likely to adversely affect species listed under the Endangered Species Act or designated critical habitat.

II. Other Legal Requirements

This action was submitted to the Office of Management and Budget (OMB) for review under Executive Orders 12866, Regulatory Planning and Review, and 13563, Improving Regulation and Regulatory Review, and was determined to be not significant. Compliance with Endangered Species Act, Essential Fish Habitat, Paperwork Reduction Act, and other requirements are discussed in the Fact Sheet to the proposed permits.

Dated: May 22, 2019.
Angela Chung,
Acting Director, Water Division, Region 10.

[FR Doc. 2019-11815 Filed 6-5-19; 8:45 am]

BILLING CODE 6560-50-P